DEPARTMENT OF ENERGY

Federal Energy Regulatory Commission

[Docket Nos. ER02-1656-000, ER02-1656-026]

California Independent System Operator Corporation; Notice of Technical Conference

August 22, 2005.

In accordance with the directive of the July 1, 2005 Order on Further Amendments to the California Independent System Operator's Comprehensive Market Redesign Proposal,¹ Federal Energy Regulatory Commission (Commission) staff will convene a technical conference to explore tariff issues related to demand response options, including special case nodal pricing. In addition to demand response generally, and special case nodal pricing in particular, participants should also come prepared to discuss the issue of wholesale load choosing to opt out of Load Aggregation Points (LAP).²

¹ California Independent System Operator, Inc., 112 FERC ¶ 61,013 at P 39 (2005).

² See id. at P 37 (“[E]ach wholesale customer should have the option of establishing, as a separate zone, the set of nodes where it receives energy).

The technical conference, which all parties may attend, will be held in San Francisco, California, on Tuesday, September 13, 2005, at 9 a.m. (PST) at the Renaissance Parc 55 Hotel, 55 Cyril Magnin Street, San Francisco, California 94102; (415) 392-8000.

For further information, contact Heidi.Werntz@FERC.gov; (202) 502-8910.

Linda Mitry,
Deputy Secretary.

[FR Doc. E5-4696 Filed 8-25-05; 8:45 am]

BILLING CODE 6717-01-P